DEPARTMENT OF COMMERCE

National Oceanic and Atmospheric Administration

[I.D. 012100D]

Endangered Species; Permits

AGENCY: National Marine Fisheries Service (NMFS), National Oceanic and Atmospheric Administration (NOAA), Commerce.

ACTION: Receipt of an application for a scientific research permit (#1234).

SUMMARY: NMFS has received a scientific research permit application from Mr. Joseph Hightower, of North Carolina Cooperative Fish and Wildlife Research Unit, North Carolina State University at Raleigh, NC.

DATES: Comments or requests for a public hearing on this application must be received no later than 5:00pm eastern standard time on March 17, 2000.

ADDRESSES: Written comments on the application should be sent to Office of Protected Resources, Endangered Species Division, F/PR3, 1315 East-West Highway, Silver Spring, MD 20910. Comments may also be sent via fax to 301-713-0376. Comments will not be accepted if submitted via e-mail or the internet. The applications and related documents are available for review by appointment in the Office of Protected Resources, Endangered Species Division, F/PR3, 1315 East-West Highway, Silver Spring, MD 20910 (ph: 301-713-1401).

FOR FURTHER INFORMATION CONTACT: Terri Jordan, Silver Spring, MD (ph: 301-713-1401, fax: 301-713-0376, e-mail: Terri.Jordan@noaa.gov).

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on the application listed in this notice should set out the specific reasons why a hearing on the application would be appropriate (see ADDRESSES). The holding of such hearings is at the discretion of the Assistant Administrator for Fisheries, NOAA. All statements and opinions contained in the permit action summary are those of the applicant and do not necessarily reflect the views of NMFS.

New Application Received

NCCFWRU (#1234) has requested a 5-month permit to capture, sample, tag and release up to 10 shortnose sturgeon (Acipenser brevirostrum) in the Roanoke River, North Carolina. The purpose of the project is to answer questions regarding impacts of the Roanoke and Gaston dams on anadromous fishes, information which is required by the Federal Energy Regulatory Commission relicensing process. No shortnose sturgeon have been recorded as being taken from the Roanoke River; however, sampling effort has been low. The Final Recovery Plan for shortnose sturgeon mandates that surveys be conducted to identify and determine the status of extant populations of shortnose sturgeon.

Dated: February 10, 2000.
Wanda L. Cain,
Chief, Endangered Species Division, Office of Protected Resources, National Marine Fisheries Service.

[FR Doc. 00-3723 Filed 2-15-00; 8:45 am]

BILLING CODE 3510-22-F